DEPARTMENT OF JUSTICE

[OMB Number 1140-0016]

Agency Information Collection Activities; Proposed eCollection eComments Requested; Revision of a Previously Approved Collection; Application for Registration of Firearms Acquired by Certain Governmental Entities—ATF F 10 (5320.10)

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until July 14, 2023.

FOR FURTHER INFORMATION CONTACT: If you have additional comments especially on the estimated public burden or associated response time, suggestions, or need a copy of the proposed information collection instrument with instructions or additional information, please contact Melissa Mason, Supervisory Program Analyst, National Firearms Act Division, by mail at 244 Needy Road, Martinsburg, West Virginia 25405, email at Nfaombcomments@atf.gov, or telephone at 304-616-4500.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: State and local government agencies will use the Application for Registration of Firearms Acquired by Certain Governmental Entities—ATF Form 10 (5320.10) to register an otherwise un-registerable National Firearms Act (NFA). The NFA requires the registration of certain firearms under Federal Law. The Form 10 registration allows State and local agencies to comply with the NFA, and retain and use firearms that would otherwise have to be destroyed. The information collection (IC) OMB 1140-0016 (Application for Registration of Firearms Acquired by Certain Governmental Entities—ATF F 10 (5320.10)) is being revised due to an increase in the total respondents, responses, burden hours and associated costs, since the last renewal in 2020. Additionally, the adjustments associated with this IC includes an increase in both, the total number of respondents and responses by 544. Consequently, the total public burden hours and costs for this IC has also increased by 272 hours and $171.36 respectively, since the last renewal in 2020.

Overview of This Information Collection

1. Type of Information Collection: Revision of a previously approved collection.

2. The Title of the Form/Collection: Application for Registration of Firearms Acquired by Certain Governmental Entities—ATF F 10 (5320.10).

3. The agency form number, if any, and the applicable component of the Department sponsoring the collection: ATF Form 10 (5320.10). Bureau of Alcohol, Tobacco, Firearms and Explosives, U.S. Department of Justice.

4. Affected public who will be asked or required to respond, as well as the obligation to respond: Affected Public: Federal Government, State, local or Tribal government. The obligation to respond is required to obtain or retain a benefit.

5. An estimate of the total number of respondents and the amount of time estimated for an average respondent to respond: An estimated 862 respondents will utilize this form annually, and it will take each respondent approximately 30 minutes to complete their responses.

6. An estimate of the total public burden (in hours) associated with the collection: The estimated annual public burden associated with this collection is 431 hours, which is equal to 862 (total respondents) * 1 (# of response per respondent) * .5 (30 minutes).

7. An estimate of the total cost burden associated with the collection: $0.

Total Burden Hours
Activity | Number of respondents | Frequency | Total annual responses | Time per response | Total annual burden (hours)
ATF Form 10 | 862 | 1 | 862 | .5 | 431
Unduplicated Totals | 862 |  | 862 |  | 431

If additional information is required contact: John R. Carlson, Department Clearance Officer, United States Department of Justice, Justice Management Division, Policy and Planning Staff, Two Constitution Square, 145 N Street NE, 4W-218, Washington, DC.

Dated: May 9, 2023.
John Carlson,
Department Clearance Officer for PRA, U.S. Department of Justice.

[FR Doc. 2023-10235 Filed 5-12-23; 8:45 am]

BILLING CODE 4410-14-P